DEPARTMENT OF DEFENSE

Office of the Secretary

[Docket ID: DoD-2025-OS-0639]

Submission for OMB Review; Comment Request

AGENCY: Office of the Under Secretary of Defense for Personnel and Readiness, (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by January 30, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: DoD Sexual Assault Prevention and Response Office Victim-Related Inquiries; DD Form 2985, OMB Control Number 0704-0565.

Type of Request: Extension.

Number of Respondents: 150.

Responses per Respondent: 1.

Annual Responses: 150.

Average Burden per Response: 30 minutes.

Annual Burden Hours: 75.

Needs and Uses: This information collection requirement is necessary to facilitate a timely response and appropriate resolution to inquiries from DoD sexual assault victims/survivors, support personnel, and others. This information is collected to support victims and survivors of sexual assault in their recovery. It is also used to maintain a database documenting the nature and status of inquiries. This database allows us to provide adequate follow-up services and inform improvements to sexual assault prevention and response programs and policies. All these efforts aim to promote victim recovery.

Military sexual assault victims, parents, other family members, friends, and SAPR personnel requesting assistance can contact the Sexual Assault Prevention and Response Office (SAPRO) by completing the DD Form 2985, “DoD SAPRO Request for Assistance.” After receiving permission from the requesting individual, the request for assistance is referred to the appropriate agency for action to facilitate a resolution.

Affected Public: Individuals or households.

Frequency: On occasion.

Respondent's Obligation: Voluntary.

DoD Clearance Officer: Mr. Reginald Lucas.

Dated: December 29, 2025.
Stephanie J. Bost,
Alternate OSD Federal Register Liaison Officer, Department of Defense.

[FR Doc. 2025-24115 Filed 12-30-25; 8:45 am]

BILLING CODE 6001-FR-P